DEPARTMENT OF THE INTERIOR

Bureau of Land Management

[LLCOSO01000 L51100000.GA0000.LVEMC18CC400.18X]

Notice of Availability of the Draft Environmental Assessment and Notice of Public Hearing for the GCC Energy, LLC, Coal Lease-by-Application and Mine Plan Modification COC-78825, La Plata County, CO

AGENCY: Bureau of Land Management, Interior.

ACTION: Notice of availability and public hearing.

SUMMARY: In accordance with Federal coal management regulations, the GCC Energy, LLC, (GCCE) Federal Coal Lease-by-Application (LBA) Environmental Assessment (EA) is available for public review and comment. The Bureau of Land Management (BLM) Tres Rios Field Office (TRFO) will hold a public hearing to receive comments on the EA, Fair Market Value (FMV), and Maximum Economic Recovery (MER) of the coal resources contained in the proposed Dunn Ranch LBA lease tract, serial number COC-78825.

DATES: The public hearing will be held on July 24, 2019, from 5 p.m. to 8 p.m. Comments should be received no later than August 5, 2019.

ADDRESSES: The public hearing will be held at the Dolores Public Lands Office, 29211 Highway 184, Dolores, Colorado 81323. Copies of the EA are available online at https://go.usa.gov/xEKTV, and at the BLM Tres Rios Field Office, located in the Dolores Public Lands Office. Verbal comments related to the GCCE Coal LBA EA, FMV and MER will be accepted at the public hearing; all other comments must be submitted online at: https://go.usa.gov/xEKTV.

FOR FURTHER INFORMATION CONTACT: James Blair, Geologist; BLM Tres Rios Field Office, 29211 Highway 184, Dolores, Colorado 81323; telephone: 970-882-1135; email: jblair@blm.gov. Persons who use a telecommunications device for the deaf (TDD) may call the Federal Relay Service (FRS) at 1-800-877-8339 to contact the above individual during normal business hours. The FRS is available 24 hours a day, 7 days a week, to leave a message or question for the above individual. You will receive a reply during normal business hours.

SUPPLEMENTARY INFORMATION: The BLM and the Office of Surface Mining, Reclamation and Enforcement (OSMRE) are preparing the EA jointly. In accordance with the TRFO Resource Management Plan, the BLM will consider a lease sale for the lands in the LBA and, if a lease sale is conducted, determine whether or not to approve the lease. Should the BLM approve and issue the lease, OSMRE will review the proposed permit revision and mining plan modification to mine the leased Federal coal and provide the Assistant Secretary for Land and Minerals Management (ASLM) a recommendation to approve, approve with conditions, or disapprove the permit revision and mining plan. The BLM and OSMRE will issue separate decision documents.

On January 10, 2018, GCCE submitted an application to lease 2,462 acres (as amended) of Federal coal located in La Plata County, Colorado. The application is for coal within the Cretaceous Menefee Formation, which would be mined by underground methods. The EA analyzes and discloses the potential direct, indirect and cumulative impacts of leasing and mining the proposed 2,462-acres of coal. The LBA is located adjacent to the King II Mine and contains an estimated 9.54 million tons of recoverable coal reserves, as determined by the BLM. As proposed, up to 12 million tons of combined private and Federal coal would be mined, resulting in approximately 20 acres of surface disturbance. An engineered, below-grade, steel-lined haulage way called a “low-cover crossing” (LCC) would be constructed to connect the LBA to the existing mine. The LCC would allow underground mining equipment to pass beneath East Alkali Gulch and not emerge to the surface. Surface facilities, operations and haulage at the existing King II Coal Mine would not change.

About two-thirds of the coal shipped from the mine is used to fuel cement manufacturing plants controlled by GCCE's parent company, Grupo Cementos de Chihuahua. The plants are located in Arizona, Colorado, New Mexico, and Texas, as well as in Mexico. The excess coal is sold for use on local scenic railways, home heating and on the spot market. Coal for cement plants in Arizona, Texas, and Mexico and for some spot market buyers is initially transported to a railhead in Gallup, New Mexico.

GCCE produces approximately 600,000 tons of coal each year, shipping approximately 80 truckloads of coal per day with 28.5 tons per load. If the BLM issues the lease, production may increase to 800,000 tons per year, with a shipping increase of 120 truckloads per day.

If the proposal is approved, the total mine life at the King II Coal Mine would be extended by 22 years (including both private and Federal coal).

The proposed project area is mostly split-estate federally owned coal, with various surface estate owners. The Ute Mountain Ute Tribe owns the majority of the surface estate, with private individuals owning a small portion, as well as one 47-acre parcel of BLM-managed land. The lands are in an area referred to as the Dunn Ranch in La Plata County and described as follows:

New Mexico Principal Meridian, Colorado

T. 35 N, R. 11 W,

Sec. 18, lots 2 thru 5, 8, 9, and 10, SE¼NW¼, and NE¼SW¼;

Sec. 19, lots 1, 2, 6, and 7, NE¼NW¼, and N½SE¼NW¼.

T. 35 N, R. 12 W,

Sec. 13, S½NE¼, SE¼NW¼, S½SW¼, NE¼SE¼, and S½SE¼;

Sec. 14, S½NE¼SW¼, S½NW¼SW¼, S½SW¼, S½NW¼SE¼, and S½SE¼;

Sec. 15, SE¼SW¼ and S½SE¼;

Sec. 22, N½NE¼, N½SW¼NE¼, SE¼SW¼NE¼, SE¼NE¼, E½NE¼NW¼, NE¼SE¼NW¼, and E½NW¼SE¼;

Sec. 23, N½NE¼, SE¼NE¼, N½NW¼, SE¼SW¼, and SE¼;

Sec. 24, N½, SW¼ and NW¼SE¼;

Sec. 26, N½NE¼NE¼, SW¼NE¼NE¼, NW¼NE¼, N½NW¼, N½SW¼NW¼, SE¼SW¼NW¼, and SE¼NW¼;

Sec. 27, NE¼NE¼ and SE¼NW¼NE¼.

The area described contains 2,462.07 acres.

The EA addresses natural resource, cultural, socioeconomic, environmental, and cumulative impacts that would result from leasing and mining these lands. Two alternatives are addressed in the EA:

Alternative 1 (Proposed Action): The BLM would offer the tract for competitive lease as requested in the LBA and issue a lease to the winning bidder, with OSMRE approving the proposed permit revision and mine plan modification to the lessee; and

Alternative 2 (No Action): The BLM would reject or deny the application, and the subsurface Federal coal reserves would be bypassed. If the BLM does not issue a Federal coal lease, OSMRE's proposed action would be moot.

Proprietary information or data marked as confidential may be submitted to the BLM in response to this solicitation of comments. Information and data marked confidential will be treated in accordance with the applicable laws and regulations governing the confidentiality of such information or data. A copy of the comments submitted by the public on the EA, FMV, and MER for the tract, except those portions identified as proprietary and that meet one of the exemptions in the Freedom of Information Act, will be available for public inspection at the BLM TRFO at the address listed above, during regular business hours (8 a.m. to 4:30 p.m.), Monday through Friday.

Before including your address, phone number, email address, or other personal identifying information in your comment, you should be aware that your entire comment—including your personal identifying information—may be made public at any time. While you can ask us in your comment to withhold your personal identifying information from public review, we cannot guarantee that we will be able to do so.

(Authority: 40 CFR 1506.6; 43 CFR 3425.3 and 3425.4.)

Jamie E. Connell,
BLM Colorado State Director.

[FR Doc. 2019-14353 Filed 7-3-19; 8:45 am]

BILLING CODE 4310-JB-P